DEPARTMENT OF THE INTERIOR

Bureau of Land Management

[ID-080-1210-PG]

Resource Advisory Council Meeting; Idaho

AGENCY: Bureau of Land Management, Interior.

ACTION: Announcement of meeting.

SUMMARY: In accordance with Section 309 of the Federal Land Policy and Management Act of October 21, 1976, (Pub. L. 94-579, 90 Stat. 2767, 43 U.S.C. 1739), as amended, and the Federal Advisory Committee Act of 1972 (FACA), as amended (Pub. L. 92-463, 5 U.S.C., App.), the Bureau of Land Management (BLM) announces the meeting of the Upper Columbia-Salmon Clearwater District Resource Advisory Council (Council) on Wednesday, March 27, 2002 and Thursday, March 28, 2002, in Missoula, Montana.

The Council's responsibilities include providing recommendations concerning long-range planning and establishing resource management priorities. Agenda items will include: Introduction of new members, election of officers, review of past accomplishments, Idaho BLM table of organization, and identification of future issues.

DATES: Wednesday, March 27, 2002 from 8:00 a.m. (MST) to 4:30 p.m. and Thursday, March 28, 2002 from 8 a.m. to 1 p.m.

ADDRESSES: The meeting will be held at the C'mon Inn, 2775 Expo Parkway, Missoula, Montana.

FOR FURTHER INFORMATION CONTACT: Stephanie Snook, BLM Coeur d'Alene District Office, 1808 N. Third Street, Coeur d'Alene, Idaho 83814. Phone (208) 769-5004.

SUPPLEMENTARY INFORMATION: All Resource Advisory Council meetings are open to the public. The public may address the Council during the public comment period from 3:00-3:30 p.m. on March 27, 2002. Interested persons may make oral statements to the Council during this time, or written statements may be submitted for the Council's consideration. Depending on the number of persons wishing to make oral statements, a per-person time limit may be established by the District Manager.

Dated: January 25, 2002.
Fritz U. Rennebaum,
District Manager.

[FR Doc. 02-6167 Filed 3-12-02; 8:45 am]

BILLING CODE 4310-GG-P